DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 73 FR 20293, dated April 15, 2008) is amended to reflect the reorganization of the Agency for Toxic Substances and Disease Registry.

Section J-B, Organization and Functions, is hereby amended as follows: After the title and function statement for the Office of Policy, Planning, and Evaluation (JAA3), Office of the Director (JAA), Office of the Administrator (JA), Agency for Toxic Substances and Disease Registry (J), insert the following:

Office of Communication (JAA7). The Office of Communication (OC): (1) Serves as the principal advisor to the Agency Assistant Administrator and divisions on communication and marketing science, research, practice, and public affairs; (2) leads agency strategic planning for communication and marketing science and public affairs programs and projects; (3) analyzes context, situation, and environment to inform agency-wide communication and marketing programs and projects; (4) ensures use of scientifically sound research for marketing and communication programs and projects; (5) ensures accurate, accessible, timely, and effective translation of science for use by multiple audiences; (6) leads identification and implementation of information dissemination channels; (7) provides communication and marketing project management expertise; (8) collaborates with external organizations and the news, public service, and entertainment and other media to ensure that scientific findings and their implications for public health reach the intended audiences; (9) collaborates closely with divisions to produce materials tailored to meet the requirements of news and other media channels, including press releases, letters to the editor, public service announcements, television programming, video news releases, and other electronic and printed materials; (10) coordinates the development and maintenance of accessible public information through the Internet, social media and other applicable channels; (11) supervises and manages a comprehensive records management activity in accordance with National Archives and Records Administration standards and CERCLA legislative requirements; (12) provides training and technical assistance in the areas of health communication, risk communication, social marketing, and public affairs; (13) provides editorial services, including writing, editing, and technical editing; (14) supervises and manages OC activities, programs, and staff; (15) serves as liaison to internal and external groups to advance the agency's mission; (16) collaborates with the CDC Office of the Associate Director for Communication on media relations, electronic communication, health media production, and brand management activities; and (17) collaborates with CDC Centers/Institute/Offices in the development of marketing communications targeted to populations that would benefit from a cross-functional approach.

Dated: September 27, 2010.
William P. Nichols,
Chief Operating Officer, Centers for Disease Control and Prevention.

[FR Doc. 2010-25221 Filed 10-8-10; 8:45 am]

BILLING CODE 4160-70-M